FEDERAL COMMUNICATIONS COMMISSION

Federal Advisory Committee Act; Communications Security, Reliability, and Interoperability Council

AGENCY: Federal Communications Commission.

ACTION: Notice.

SUMMARY: In accordance with the Federal Advisory Committee Act, this notice advises interested persons that the Federal Communications Commission's (FCC or Commission) Communications Security, Reliability, and Interoperability Council (CSRIC) IV will hold its second meeting. At the meeting, each of the Working Groups will present an update on topics including emergency warning systems, 9-1-1 location accuracy, distributed denial-of-service (DDoS), and cybersecurity best practices.

DATES: December 4, 2013.

ADDRESSES: Federal Communications Commission, Room TW-C305 (Commission Meeting Room), 445 12th Street SW., Washington, DC 20554.

FOR FURTHER INFORMATION CONTACT: Jeffery Goldthorp, Designated Federal Officer, (202) 418-1096 (voice) or jeffery.goldthorp@fcc.gov (email); or Lauren Kravetz, Deputy Designated Federal Officer, (202) 418-7944 (voice) or lauren.kravetz@fcc.gov (email).

SUPPLEMENTARY INFORMATION: The notice of this meeting was first published in the Federal Register on November 21, 2013, only 14 days in advance of the meeting. While the publication did not meet the 15-day requirement for advance publication, exceptional circumstances warrant proceeding with the December 4, 2013, CSRIC meeting. CSRIC members were informed of the December 4th meeting at the September 12, 2013, public meeting of the Council, and have been informed informally of the December meeting date on more than one occasion since then. A significant number of Council members have made business and travel plans in accordance with this schedule, and there is no date within one month of the planned date that will accommodate Council members' schedules. Delaying the meeting will also cause undue financial burdens on many of the members who have made travel arrangements.

In addition, it is not possible at this time to schedule a half-day meeting in the FCC's Commission Meeting Room for any date within one month of December 4, 2013. Further, recognizing the one-day delay in Federal Register publication, the agency issued a Public Notice of this meeting on November 20, 2013, to mitigate the late Federal Register publication and as an additional way of advising the public of this meeting and their right to attend. As the December 2013 meeting date was announced at the September 2013 public meeting of the Council, the meeting has now been broadly announced to the public more than once.

The November 21, 2013, Federal Register notice is available at http://www.gpo.gov/fdsys/pkg/FR-2013-11-21/pdf/2013-27844.pdf. The FCC Public Notice announcing the meeting is available at http://transition.fcc.gov/Daily_Releases/Daily_Business/2013/db1120/DA-13-2225A1.pdf. Additional information regarding the CSRIC can be found at http://www.fcc.gov/encyclopedia/communications-security-reliability-and-interoperability-council-iv.

Federal Communications Commission.
Lisa M. Fowlkes,
Deputy Chief, Public Safety and Homeland Security Bureau.

[FR Doc. 2013-28491 Filed 11-22-13; 4:15 pm]

BILLING CODE 6712-01-P